SECURITIES AND EXCHANGE COMMISSION

[Release No. 54017; File No. SR-Phlx-2006-38]

Self-Regulatory Organizations; Philadelphia Stock Exchange, Inc.; Notice of Filing and Immediate Effectiveness of Proposed Rule Change to Extend a Pilot Concerning Priority in Trades Involving Synthetic Option Orders

Correction

In notice document 06-5679 beginning on page 36596 in the issue of Tuesday, June 27, 2006, make the following correction:

On page 36596, in the third column, directly below the subject line should appear “June 19, 2006.”.

[FR Doc. C6-5679 Filed 7-21-06; 8:45 am]

BILLING CODE 1505-01-D

SECURITIES AND EXCHANGE COMMISSION

[Release No. 34-54094; File No. SR-Amex-2006-42]

Self-Regulatory Organizations; American Stock Exchange LLC; Order Granting Approval To a Proposed Rule Change and Amendment No. 1 Thereto Relating to a Retroactive Suspension of Transaction Charges for Specialist Orders in the Nasdaq-100 Tracking Stock® (QQQQ)

Correction

In notice document E6-10762 appearing on page 39135 in the issue of Tuesday, July 11, 2006, make the following correction:

In the second column, directly below the subject line should appear “July 3, 2006.”.

[FR Doc. Z6-10762 Filed 7-21-06; 8:45 am]

BILLING CODE 1505-01-D